DEPARTMENT OF DEFENSE

Department of the Air Force

Proposed Collection; Common Request

AGENCY: Department of the Air Force and Department of the Navy.

ACTION: Notice.

SUMMARY: This serves as a request for public comment, pursuant to 36 CFR 800.14(e). The Department of the Air Force and the Department of the Navy (Navy and Marine Corps) are working to improve the quality of the housing for their Service Members. In compliance with the National Historic Preservation Act's (NHPA) Section 106 regulations, the Air Force and the Navy are consulting with the Advisory Council on Historic Preservation (Council), the National Conference of State Historic Preservation Officers (NCSHPO) and the National Trust for Historic Preservation (National Trust) to efficiently and programmatically meet their federal historic preservation responsibilities regarding Capehart and Wherry era housing as required under the NHPA rather than consult on individual undertakings, installation by installation.

DATES: Consideration will be given to all comments received by October 12, 2004.

ADDRESSES: Address comments to: HQ AF/ILE, Environmental Programs, ATTN: Lt. Col. Alan Holck, 1260 Air Force Pentagon, Washington, DC, 20030-1260 (AIR FORCE) Commander, Naval Facilities Engineering Command (BDD), ATTN: Dr. Jay Thomas, 1322 Patterson Ave SE., Ste 1000, Washington, Navy Yard DC 20374-5065.

FOR FURTHER INFORMATION CONTACT: Lt. Col. Alan Holck at (703) 604-0632 or Dr. Jay Thomas at (202) 685-9196.

SUPPLEMENTARY INFORMATION: The Air Force and the Navy's (including the Marine Corps) Capehart and Wherry era housing may be eligible for listing to the National Register of Historic Places Under National Register Criteria A (associated with events that have made a significant contribution to the broad patterns of our history) and C (embodying distinctive characteristics of a type, period, or method of construction and representing a significant and distinguishable entity whose components may lack individual distinction). Section 106 of the National Historic Preservation Act (NHPA) requires federal agencies to consider the effects of their actions on historic properties and provide the Council a reasonable opportunity to comment. The Section 106 process seeks to accommodate historic preservation concerns with the needs of the federal agencies through consultation among the agency officials and other parties with an interest in the effects of the undertaking on historic properties. The Air Force and the Navy will request Program Comments from the Council pursuant to 36 CFR § 800.14e as an alternative way to comply with their historic preservation responsibilities for Capehart and Wherry era family housing (1949-1962). Capehart and Wherry housing is located at 46 Air Force, 41 Navy, and 13 Marine Corps installations throughout the United States. The Air Force and the Navy will request public comment on the proposed programmatic approach to comply with Section 106 of the NHPA. Potential mitigation includes augmenting and adopting research completed by the Department of the Army, pursuant to the Program Comment the Council issued on 7 June 02. Specific mitigation measures under consideration include oral histories, supplemental historic context information, adoption of the Army's design guidelines and tax credit information.

Types of management and treatment that may be made to Capehart and Wherry era housing by the Air Force and the Navy include: maintenance and repair, rehabilitation, layaway and mothballing, demolition and replacement, transfer, sale or lease out of federal control, and substantial alteration through renovation, and may include any associated structures and landscape features that may be contributing elements to Capehart and Wherry are housing's eligibility for listing to the National Register of Historic Places. Implementation of all or some of these actions may constitute an adverse effect to historic properties. Evaluation of the environmental impacts resulting from implementation of the Air Force and the Navy's housing program will be addressed separately at each installation per the National Environmental Policy Act.

The Air Force and the Navy will consult with the Council, the NCSHPO and the National Trust to identify appropriate treatment measures for its Capehart and Wherry era properties. Recommendations agreed to as a result of consultation will be published in the Federal Register by the Council. Agreement to and implementation of these recommendations will demonstrate the Air Force and the Navy have taken into account the effect of the undertaking on historic properties.

Pamela Fitzgerald,
Air Force Federal Register Liaison Officer.

[FR Doc. 04-18214 Filed 8-9-04; 8:45 am]

BILLING CODE 5001-05-M